FEDERAL EMERGENCY MANAGEMENT AGENCY

44 CFR Part 209

RIN 3067-AD06

Supplemental Property Acquisition and Elevation Assistance; Correction

AGENCY: Federal Emergency Management Agency (FEMA).

ACTION: Final Rule; Correction.

SUMMARY: We, FEMA, published a final rule on June 15, 2001, 66 FR 32666, that provides guidance on the administration of the Supplemental Property Acquisition and Assistance Program. In codifying that rule, some errors were found. This document corrects those errors.

EFFECTIVE DATE: August 14, 2001.

FOR FURTHER INFORMATION CONTACT: Michael S. Herman, Office of the General Counsel, Federal Emergency Management Agency, 500 C Street SW, Washington, DC 20472, (202) 646-4097, (Fax) 202-646-4536, or email: michael.herman@fema.gov

SUPPLEMENTARY INFORMATION: On June 15, 2001 we published a final rule, 44 CFR Part 209, 66 FR 32666, that provides guidance on the administration of the Supplemental Property Acquisition and Assistance Program. In codifying that rule, some errors were found. Neither the errors nor these corrections change the meaning of the rule. The errors consist of spacing errors, incorrect punctuation and numbering errors. This document corrects those errors.

In final rule FR Doc. 01-15053, published June 15, 2001 (66 FR 32666) make the following Corrections:

PART 209—[CORRECTED]

§ 209.2 [Corrected]

1. On page 32669, third column, in § 209.2, remove the semicolon in the definition of Principal residence.

§ 209.7 [Corrected]

2. On page 32671, first column, in § 209.7, correctly designate paragraph (d) as paragraph (b).

§ 209.8 [Corrected]

3. On page 32671, second column, in § 209.8(c)(8)(ii), third line, remove word “and”.

4. On page 32672, first column, in § 209.8(c)(9)(xiii), last line, correct the period to read “; and”.

5.On page 32672, first column, in § 209.8, correctly designate the second paragraph (c)(9) as paragraph (c)(10).

Dated: September 24, 2001.
Michael D. Brown,
General Counsel.

[FR Doc. 01-24332 Filed 9-27-01; 8:45 am]

BILLING CODE 6718-04-P